SECURITIES AND EXCHANGE COMMISSION

[Release No. 34-65398; File No. SR-MSRB-2011-15]

Self-Regulatory Organizations; Municipal Securities Rulemaking Board; Notice of Withdrawal of Proposed Interpretive Notice Concerning the Application of Rule G-17 to Municipal Advisors

September 26, 2011.

On August 24, 2011, the Municipal Securities Rulemaking Board (the “MSRB”) filed with the Securities and Exchange Commission (the “Commission”) a proposed rule change pursuant to Section 19(b)(1) of the Securities Exchange Act of 1934 ¹ and Rule 19b-4 thereunder,² consisting of a proposed interpretive notice concerning the application of MSRB Rule G-17 to municipal advisors. Notice of the proposed rule change was published in the Federal Register on September 14, 2011.³ The Commission received no comments on the proposed rule change. On September 9, 2011, the MSRB withdrew the proposed rule change (SR-MSRB-2011-15).⁴

¹ 15 U.S.C. 78s(b)(1).

² 17 CFR 240.19b-4.

³ See Securities Exchange Act Release No. 65292 (September 8, 2011), 76 FR 56826.

⁴ See MSRB Notice 2011-51 (September 12, 2011).

For the Commission, by the Division of Trading and Markets, pursuant to delegated authority.⁵
⁵ 17 CFR 200.30-3(a)(12).
Elizabeth M. Murphy,
Secretary.

[FR Doc. 2011-25192 Filed 9-29-11; 8:45 am]

BILLING CODE 8011-01-P